Proclamation 8626 of January 31, 2011

National Teen Dating Violence Awareness and Prevention Month, 2011

By the President of the United States of America

A Proclamation

National Teen Dating Violence Awareness and Prevention Month reflects our Nation’s growing understanding that violence within relationships often begins during adolescence. Each year, about one in four teens report being the victim of verbal, physical, emotional, or sexual violence. Abusive relationships can impact adolescent development, and teens who experience dating violence may suffer long-term negative behavioral and health consequences. Adolescents in controlling or violent relationships may carry these dangerous and unhealthy patterns into future relationships. The time to break the cycle of teen dating violence is now, before another generation falls victim to this tragedy.

Though many communities face the problem of teen dating violence, young people can be afraid to discuss it, or they may not recognize the severity of physical, emotional, or sexual abuse. Parents and other adults can also be uncomfortable acknowledging that young people experience abuse, or may be unaware of its occurrence. To help stop abuse before it starts, mentors and leaders must stress the importance of mutual respect and challenge representations in popular culture that can lead young people to accept unhealthy behavior in their relationships.

Our efforts to take on teen dating violence must address the social realities of adolescent life today. Technology such as cell phones, email, and social networking websites play a major role in many teenagers’ lives, but these tools are sometimes tragically used for control, stalking, and victimization. Emotional abuse using digital technology, including frequent text messages, threatening emails, and the circulation of embarrassing messages or photographs without consent, can be devastating to young teens. I encourage concerned teens, parents, and loved ones to contact the National Teen Dating Abuse Helpline at 1-866-331-9474 or visit www.LoveIsRespect.org to receive immediate and confidential advice and referrals.

My Administration is committed to engaging a broad spectrum of community partners to curb and prevent teen dating violence. The Department of Justice’s Office on Violence Against Women supports collaborative efforts to enhance teens’ understanding of healthy relationships, help them identify signs of abuse, and assist them in locating services. Resources are available at: www.OVW.USDOJ.gov/teen_dating_violence.htm. The Centers for Disease Control and Prevention also provide tools to help prevent dating violence among teens. More information is available at: www.CDC.gov/ChooseRespect.

During National Teen Dating Violence Awareness and Prevention Month—and throughout the year—let each of us resolve to do our part to break the silence and create a culture of healthy relationships for all our young people. Adults who respect themselves, their partners, and their neighbors demonstrate positive behaviors to our children—lessons that will help them lead safe and happy lives free from violence.

NOW, THEREFORE, I, BARACK OBAMA, President of the United States of America, by virtue of the authority vested in me by the Constitution and the laws of the United States, do hereby proclaim February 2011 as National Teen Dating Violence Awareness and Prevention Month. I call upon all Americans to support efforts in their communities and schools, and in their own families, to empower young people to develop healthy relationships throughout their lives and to engage in activities that prevent and respond to teen dating violence.

IN WITNESS WHEREOF, I have hereunto set my hand this thirty-first day of January, in the year of our Lord two thousand eleven, and of the Independence of the United States of America the two hundred and thirty-fifth.

[FR Doc. 2011-2576

Filed 2-2-11; 11:15 am]

Billing code 3195-W1-P